ENVIRONMENTAL PROTECTION AGENCY

40 CFR Part 745

[EPA-HQ-OPPT-2006-0044; FRL-7760-3]

Lead Paint Test Kit Development; Request for Comments

AGENCY: Environmental Protection Agency (EPA).

ACTION: Request for comments.

SUMMARY: EPA is requesting information concerning the development of test kits or similar technologies for testing lead in paint that could be used by renovators, repair persons, and painters complying with a future EPA regulation for renovation, repair, and painting activities. This information will be considered in formulating EPA's policy and research decisions regarding the development of lead paint test kits. The lead paint test kits will allow renovators, repair persons, and painters to focus resources and identify locations where lead-based paint is present and reliably determine situations where appropriate preventive actions should be undertaken.

DATES: Comments must be received on or before April 17, 2006.

ADDRESSES: Submit your comments, identified by docket identification (ID) number EPA-HQ-OPPT-2006-0044, by one of the following methods.

• http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East, Rm. 6428, 1201 Constitution Ave., NW., Washington, DC. Attention: Docket ID Number EPA-HQ-OPPT-2006-0044. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2006-0044. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, i.e., CBI or other information whose disclosure is restricted by statute. Certain other material, such as copyrighted material, is not placed on the Internet and will be publicly available only in hard copy form. Publicly available docket materials are available electronically through regulations.gov or in hard copy at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: John Schwemberger, National Program Chemicals Division (7404T), Office Pollution Prevention and Toxics, Environmental Protection Agency, 1200 Pennsylvania Ave., NW., Washington, DC 20460-0001; telephone number: (202) 566-1972; e-mail address: schwemberger.john@epa.gov.

SUPPLEMENTARY INFORMATION:

I. General Information

A. Does this Action Apply to Me?

You may be potentially affected by this action if you manufacture test kits or similar technologies for lead paint testing; conduct sampling or testing for lead in paint; renovate, repair, or paint in housing built before 1978; or arrange for renovation, repair, or painting of housing units built before 1978. Potentially affected entities may include, but are not limited to:

• Research and Development in Physical, Engineering, and Life Sciences (NAICS code 541710), e.g., developers of test kits or similar technologies for lead testing.

• Engineering Services (NAICS code 541330) and Building Inspection Services (NAICS code 541350), e.g., lead paint inspectors.

• Building construction (NAICS code 236), e.g., single family housing construction firms, multifamily housing construction firms, residential remodelers.

• Specialty trade contractors (NAICS code 238), e.g., plumbing, heating, and air-conditioning contractors; painting and wall covering contractors; electrical contractors; finish carpentry contractors; drywall and insulation contractors; siding contractors; tile and terrazzo contractors; glass and glazing contractors.

• Real estate (NAICS code 531), e.g., lessors of residential buildings and dwellings, residential property managers.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in § 745.82 of EPA's proposed regulation for Lead; Renovation, Repair, and Painting Program, published in the Federal Register on January 10, 2006 (71 FR 1587) (FRL-7755-5) under docket ID number EPA-HQ-OPPT-2005-0049. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Background

A. What Action is the Agency Taking?

EPA is requesting information concerning the development of test kits or similar technologies for testing lead in paint that could be used by renovators, repair persons, and painters complying with a future EPA regulation for renovation, repair, and painting activities. This information will be considered in formulating EPA's policy and research decisions regarding the development of lead paint test kits. The lead paint test kits will allow renovators, repair persons, and painters to focus resources and identify locations where lead-based paint is present and reliably determine situations where appropriate preventive actions should be undertaken.

EPA's proposed regulation for renovation, repair, and painting activities published in the January 10, 2006 Federal Register, and is available under docket ID number EPA-HQ-OPPT-2005-0049 at http://www.regulations.gov/. You can also access the proposed rule directly at http://www.epa.gov/fedrgstr/EPA-TOX/2006/January/Day-10/t071.pdf.

The proposed regulation calls for recognizing test kits that have a demonstrated probability of a negative response no more than 5% of the time for paint at or above the regulated lead level (i.e., kits with a false negative rate of no more than 5%). Under the proposed rule, these test kits could be used by trained and certified renovators in target housing to determine that the components affected by the renovation are free of lead-based paint. The proposed regulation also envisions the development of an improved, more accurate test kit that has:

1. A demonstrated probability of a negative response no more than 5% of the time for paint at or above the regulated lead level (i.e., a false negative rate of no more than 5%).

2. A demonstrated probability of a positive response no more than 10% of the time for paint below the regulated lead level (i.e., a false positive rate of no more than 10%).

The planned effective dates of the renovation, repair, and painting regulation are based on improved test kits being commercially available approximately in 3 years. Readers seeking additional information, should refer to the proposed regulation published in the January 10, 2006 Federal Register.

EPA defines lead-based paint as any paint or other coating on a building component with either 1.0 milligrams or more lead per square centimeter or 0.5% or more lead by weight. The term “regulated lead level” refers to either of these two threshold numbers. A manufacturer, inventor, or vendor of a test kit or similar technology may choose either one of these numbers as the regulated level for demonstration and evaluation purposes. For the final regulation on renovation, repair, and painting activities, EPA would like a test kit or similar technology that meets the following specifications to be commercially available. The specifications below are consistent with those in the proposed regulation published in the January 10, 2006 Federal Register, and provide additional detail.

Specifications:

1. False negative rate of no more than 5% for paint above or equal to the regulated level.

2. False positive rate of no more than 10% for paint below the regulated level.

3. Cost of under $2 per test.

4. Test results to be available within an hour. Test kit includes quality control samples so users can make sure the test kit is working properly when the test is conducted.

5. The test kit can be reliably used by a renovator, repair person, or painter who has completed training in the use of the test kit, and who has been certified by an EPA, State, territorial, or tribal lead program. The test kit provides consistent results when used by any trained and certified renovator, repair person, or painter. Required test kit training is to be minimal, 2-3 hours.

In addition, EPA is interested in a test kit or similar technology that can be applied to any paint in pre-1978 housing units regardless of the type of material (wood, metal, plaster, drywall, brick, concrete, etc.) beneath the paint. EPA is requesting information on test kits and similar technologies for testing lead in paint in the form of comments provided to the Agency no later than April 17, 2006. Comments are requested on the following topics:

1. The feasibility of developing a test kit or similar technology that meets the specifications in this document.

2. Manufacturers who have or could develop a test kit or similar technology that meets the specifications in this document.

3. Current test kits or similar technologies for testing lead in paint that may meet the specifications in this document.

4. Future test kits or similar technologies for testing lead in paint that will be available in approximately the next 3 years that may meet the specifications described in this document.

B. What is the Agency's Authority for Taking this Action?

EPA is taking this action under section 3710a of the Federal Technology Transfer Act, 15 U.S.C. 3710a, and sections 10 and 405 of the Toxic Substances Control Act, 15 U.S.C. 2609 and 2685.

List of Subjects

Environmental protection, Children, Hazardous substances, Health and safety, Lead-based paint test kit.

Dated: March 9, 2006.
Susan B. Hazen,
Acting Assistant Administrator, Office of Prevention, Pesticides and Toxic Substances.

[FR Doc. E6-3824 Filed 3-15-06; 8:45 am]

BILLING CODE 6560-50-S